DEPARTMENT OF DEFENSE

Office of the Secretary

[DOD-2006-OS-0148]

Privacy Act of 1974; System of Records

AGENCY: Office of the Secretary, DoD.

ACTION: Notice to Amend System of Records.

SUMMARY: The Office of the Secretary of Defense is amending a system of records notice in its existing inventory of record systems subject to the Privacy Act of 1974, (5 U.S.C. 552a), as amended.

DATES: This proposed action will be effective without further notice on July 19, 2006 unless comments are received which result in a contrary determination.

ADDRESSES: Send comments to the OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense system of records notices subject to the Privacy Act of 1974, (5 U.S.C. 552a), as amended, have been published in the Federal Register and are available from the address above.

The specific changes to the record system being amended are set forth below followed by the notice, as amended, published in its entirety. The proposed amendments are not within the purveiw of subsection (r) of the Privacy Act of 1974, (5 U.S.C. 552a), as amended, which requires the submission of a new or altered system report.

C.R. Choate,
Alternate OSD Federal Register Liaison Officer, Department of Defense.

DPR 31

System name:

Personnel Commercial Solicitation Evaluation (December 20, 2004, 69 FR 75936).

Changes:

* * * * *

System location:

Add the following paragraph: “Records are also located at installations and activities where the commercial solicitation occurred.”

* * * * *

System manager(s) and address:

Delete address and replace with: “Department of Defense, Military Community and Family Policy, ATTN: Morale, Welfare and Recreation Policy Office, 241 S. 18th Street, Suite 302, Arlington, VA 22202-3424.”

Notification procedure:

Add the following paragraph: “Individuals also can seek such information from the office responsible for commercial solicitation activities for the installation or activity where the commercial solicitation occurred.”

Record access procedures:

Add the following paragraph: “Individuals also can obtain such information from the office responsible for commercial solicitation activities for the installation or activity where the commercial solicitation occurred.”

* * * * *

DPR 31

System name:

Personal Commercial Solicitation Evaluation.

System location:

Department of Defense, Military Community and Family Policy, ATTN: Morale, Welfare and Recreation Policy Office, 241 S. 18th Street, Suite 302, Arlington, VA 22202-3424.

Records are also located at installations and activities where the commercial solicitation occurred.

Categories of individuals covered by the system:

Active duty service members and solicitors.

Categories of records in the system:

Name of sales representative and company; appointment information; conduct of sale representative; active duty service member's name, home and work phone number, unit address and e-mail.

Authority for maintenance of the system:

5 U.S.C. 301, Departmental Regulation; 15 U.S.C. 1601, Congressional findings and declaration of purpose; and DoD Directive 1344.7, Personal Commercial Solicitation on DoD Installations.

Purpose(s):

The information is used to document the active duty service member's experience with the sales representatives. Service member responses ensure sales representatives conduct themselves fairly and in accordance with DoD Directive 1344.7. Information may be used as part of a case file in the event proceedings are considered necessary to deny or withdraw permission for the sales representative and/or the company to solicit on one or more military installations.

Routine uses of records maintained in the system, including categories of users and the proposes of such uses:

In addition to those disclosures generally permitted under 5 U.S.C. 552a(b) of the Privacy Act, these records or information contained therein may specifically be disclosed outside the DoD as a routine use pursuant to 5 U.S.C. 552a(b)(3) as follows:

The DoD `Blanket Routine Uses' set forth at the beginning of OSD's compilation of systems of records notices do not apply to this system.

Policies and practices for storing, retrieving, accessing, retaining, and disposing of records in the system:

Storage:

Paper in file folders.

Retrievability:

Records are retrieved by the active duty service members' name and unit.

Safeguards:

Records are maintained in controlled areas accessible only to authorized personnel with a valid requirement and authorization to enter. Physical entry is restricted by use of combination numbered and cipher locks.

Retention and disposal:

Permanent. Cut off and retire to the Washington National Records Center when superseded or obsolete.

System manager(s) and address:

Department of Defense, Military Community and Family Policy, ATTN: Morale, Welfare and Recreation Policy Office, 241 S. 18th Street, Suite 302, Arlington, VA 22202-3424.

Notification procedure:

Individuals seeking to determine whether information about themselves is contained in this system should address written inquiries to the Office of the Under Secretary of Defense (Military Community and Family Policy), ATTN: Morale, Welfare and Recreation Policy Directorate, 1745 Jefferson Davis Highway, Suite 302, Arlington, VA 22202-3424.

Individuals also can seek much information from the office responsible for commercial solicitation activities for the installation or activity where the commercial solicitation occurred.

Requests should include the individual's name, phone number, and address.

Record access procedures:

Individual seeking access to information about themselves should address written requests to the Office of the Under Secretary of Defense (Military Community and Family Policy), ATTN: Morale, Welfare and Recreation Policy Directorate, 1745 Jefferson Davis Highway, Suite 302, Arlington, VA 22202-3424.

Individuals also can obtain such information from the office responsible for commercial solicitation activities for the installation or activity where the commercial solicitation occurred.

Requests should include the individual's name, phone number, and address.

Contesting record procedures:

The OSD rules for accessing records, for contesting contents and appealing initial agency determinations are published in OSD Administrative Instruction 81; 32 CFR part 311; or may be obtained from the system manager.

Record source categories:

Active duty service member.

Exemptions claimed for the system:

None.

[FR Doc. 06-5491 Filed 6-16-05; 8:45 am]

BILLING CODE 5001-06-M